FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other agencies to take this opportunity to comment on a proposed reinstatement without change of a previously approved information collection for which approval has expired. In accordance with the Paperwork Reduction Act of 1995 (44 U.S.C. 3506(c)(2)(A)), this notice seeks comments concerning Temporary Housing Assistance for victims of a federally declared disaster.

Supplementary Information: Public Law 93-288, as amended by Public Law 100-707, the Robert T. Stafford Disaster Relief and Emergency Assistance Act, Section 408, authorizes the Federal Emergency Management Agency (FEMA) to provide Temporary Housing Assistance. This type of assistance could be in the form of mobile homes, travel trailers, or other readily fabricated dwelling. This assistance is used when required to provide disaster housing for victims of federally declared disasters. In the event this assistance is used, and other alternate housing is not available; the law provides for the sale of mobile homes to eligible disaster applicants at prices that are fair and equitable. A provision has been made which includes a formula for adjustments in the sale price when there is a need to purchase the unit as a primary residence because all other housing resources have been exhausted. This provision also takes into account that in addition to his/her own resources, the purchaser cannot obtain sufficient funds through insurance proceeds, disaster loans, grants, and commercial lending institutions to cover the sales price.

Collection of Information

Title: Request for Loan Information Verification.

Type of Information Collection: Reinstatement without change of a previously approved collection for which approval has expired.

OMB Number: 3067-0125.

Form Numbers: FEMA Form 90-68.

Abstract: Temporary Housing Assistance (Disaster Housing Assistance) uses mobile homes, travel trailers, or other forms of readily fabricated housing. FEMA Form 90-68 is used to obtain information required to determine a fair and equitable sales price of a mobile home to a disaster victim. The ability to borrow money commercially is an important factor in determining the final sales price.

Affected Public: Individuals or households; business or other for profit.

Number of Respondents: 520.

Frequency of Response: On occasion.

Hours Per Response: 10 minutes.

Estimated Total Annual Burden Hours: 86.

Estimated Cost: $1,416.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, FEMA Information Collections Officer, Federal Emergency Management Agency, 500 C Street, SW, Room 316, Washington, DC 20472. Telephone number (202) 646-2625. FAX number (202) 646-3524.

FOR FURTHER INFORMATION CONTACT: Contact David L. Porter, Program Specialist (Emergency Response), RR-HS-PG, 202-646-3883 or Carl Hallstead, 202-646-3654 for additional information. Contact Ms. Anderson at (202) 646-2625 for copies of the proposed collection of information or email address muriel.anderson@fema.gov.

Dated: February 16, 2000.
Reginald Trujillo,
Director, Program Services Division, Operations Support Directorate.

[FR Doc. 00-4678 Filed 2-28-00; 8:45 am]

BILLING CODE 6718-01-P